ENVIRONMENTAL PROTECTION AGENCY

[FRL-7510-5]

Government-Owned Inventions: Available for Licensing

AGENCY: Environmental Protection Agency.

ACTION: Notice of availability of inventions for licensing.

SUMMARY: The inventions named below are co-owned by the U.S. Government and are available for licensing in the United States in accordance with 35 U.S.C. 207 and 37 CFR part 404. Pursuant to 37 CFR 404.7, beginning three months after the date of this notice the Government may grant exclusive or partially exclusive licenses on the inventions.

Copies of the patents and 37 CFR part 404 can be obtained from Alan Ehrlich, Patent Counsel, U.S. Environmental Protection Agency (EPA) at the address indicated below. Requests for copies of the patents must include the patent numbers listed in this notice.

A party that is interested in obtaining a license must apply to EPA at the contact address below. The license application must contain the information set forth in 37 CFR 404.8, including the license applicant's plan for development or marketing of the inventions.

EPA intends to license these patents in cooperation with the co-owner, the University of Kentucky Research Foundation. Prior to granting an exclusive or partially exclusive license on these inventions, EPA, pursuant to 37 CFR 404.7, will publish in the Federal Register an additional notice identifying the specific inventions and the prospective licensees.

FOR FURTHER INFORMATION CONTACT: Alan Ehrlich, Patent Counsel, Office of General Counsel (2377A), Environmental Protection Agency, Washington, DC 20460, telephone (202) 564-5457.

Patents

U.S. Patent No. 6,544,419, Method of preparing a composite polymer and silica-based membrane, issued April 8, 2003;

U.S. Patent No. 6,544,418, Preparing and regenerating a composite polymer and silica-based membrane, issued April 8, 2003;

U.S. Patent No. 6,306,301, Silica-based membrane sorbent for heavy metal sequestration, issued October 23, 2001;

U.S. Patent No. 6,139,742, Membrane-based sorbent for heavy metal sequestration, issued October 30, 2000;

U.S. Patent No. 6,103,121, Membrane-based sorbent for heavy metal sequestration, issued August 15, 2000.

Dated: June 1, 2003.
Marla E. Diamond,
Associate General Counsel.

[FR Doc. 03-14575 Filed 6-9-03; 8:45 am]

BILLING CODE 6560-50-P